DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Groundfish Trawl Catcher Processor Economic Data Report.

OMB Control Number: 0648-0564.

Form Number(s): None.

Type of Request: Regular (extension of a currently approved information collection).

Number of Respondents: 30.

Average Hours per Response: 22 hours per report.

Burden Hours: 660.

Needs and Uses: This request is for extension of a current information collection.

The Groundfish Trawl Catcher Processor Economic Data Report (the EDR) collects information for the Gulf of Alaska Trawl Groundfish Economic Data Report Program (GOA Trawl EDR Program) and for Amendment 80 to the Fishery Management Plan for Groundfish of the Bering Sea and Aleutian Islands Management Area.

The GOA Trawl EDR Program evaluates the economic effects of current and future groundfish and prohibited species catch (PSC) management measures for GOA trawl fisheries. This program provides the National Marine Fisheries Service (NMFS) and the North Pacific Fishery Management Council with baseline information on affected harvesters, crew, processors, and communities in the GOA.

Amendment 80 to the Fishery Management Plan for Groundfish of the Bering Sea and Aleutian Islands Management Area primarily allocates several BSAI non-pollock trawl groundfish fisheries among fishing sectors, and facilitates the formation of harvesting cooperatives among vessels in the Non-American Fisheries Act (non-AFA) Trawl Catcher/Processor Cooperative Program. This program established a limited access privilege program for the non-AFA trawl catcher/processor sector.

Data collected through the EDR includes labor information, revenues received, capital and operational expenses, and other operational or financial data. This information is used to assess the economic effects of Amendment 80 on vessels or entities regulated by the non-AFA Trawl Catcher/Processor Cooperative Program, and impacts of major changes in the groundfish management regime, including allocation of PSC species and target species to harvesting cooperatives.

The EDR is submitted annually by vessel owners and leaseholders of GOA trawl vessels, processors receiving deliveries from those trawl vessels, and Amendment 80 catcher/processors harvesting in the GOA and BSAI. Submission of the EDR is mandatory.

Affected Public: Business or other for-profit organizations; individuals or households.

Frequency: Annually.

Respondent's Obligation: Required to obtain or retain a benefit.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 12, 2017.
Sarah Brabson,
NOAA PRA Clearance Officer.

[FR Doc. 2017-22482 Filed 10-16-17; 8:45 am]

BILLING CODE 3510-22-P